FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Long—Division of Research and Statistics, Board of Governors of the Federal Reserve System, Washington, DC 20551 (202-452-3829). OMB Desk Officer—Mark Menchik—Office of Information and Regulatory Affairs, Office of Management and Budget, New Executive Office Building, Room 10235, Washington, DC 20503, or e-mail to mmenchik@omb.eop.gov.

Final Approval Under OMB Delegated Authority of the Extension for Three Years, With Minor Revision, of the Following Reports

1. Report title: Survey of Terms of Lending.

Agency form number: FR 2028A, FR 2028B, and FR 2028S.

OMB control number: 7100-0061.

Frequency: Quarterly.

Reporters: Commercial banks; and U.S. branches and agencies of foreign banks (FR 2028A and FR 2028S only).

Annual reporting hours: 7,317 hours.

Estimated average hours per response: FR 2028A, 3.7 hours; FR 2028B, 1.2 hours; and FR 2028S, 0.1 hours.

Number of respondents: FR 2028A, 398; FR 2028B, 250; and FR 2028S, 567.

General description of report: This information collection is voluntary (12 U.S.C. 248(a)(2)) and is given confidential treatment (5 U.S.C. 552(b)(4)).

Abstract: The Survey of Terms of Lending provides unique information concerning both price and certain nonprice terms of loans made to businesses and farmers during the first full business week of the mid-month of each quarter (February, May, August, and November). The survey comprises three reporting forms: the FR 2028A, Survey of Terms of Business Lending; the FR 2028B, Survey of Terms of Bank Lending to Farmers; and the FR 2028S, Prime Rate Supplement to the Survey of Terms of Lending. The FR 2028A and B collect detailed data on individual loans made during the survey week, and the FR 2028S collects the prime interest rate for each day of the survey from both FR 2028A and FR 2028B respondents. From these sample data, estimates of the terms of business loans and farm loans extended during the reporting week are constructed. The estimates for business loans are published in the quarterly E.2 release, Survey of Terms of Business Lending, while estimates for farm loans are published in the quarterly E.15 release, Agricultural Finance Databook.

Current Actions: On September 29, 2005, the Federal Reserve published a notice soliciting comments on proposed revisions to the Survey of Terms of Lending (70 FR 56897). The comment period ended on November 28, 2005. The notice described the Federal Reserve's proposal to revise the FR 2028A and FR 2028B by increasing to $3,000 the minimum size of loans reported. No changes were proposed to the FR 2028S. The Federal Reserve did not receive any comments on the proposed revisions. The revisions will be effective for the May 2006 survey week.

2. Report title: Report of Terms of Credit Card Plans.

Agency form number: FR 2572.

OMB control number: 7100-0239.

Frequency: Semi-annual.

Reporters: Commercial banks, savings banks, industrial banks, and savings and loans associations.

Annual reporting hours: 75 hours.

Estimated average hours per response: 0.25 hours.

Number of respondents: 150.

General description of report: This information collection is voluntary (15 U.S.C. § 1646(b)) and is not given confidential treatment.

Abstract: This report collects data on credit card pricing and availability from a sample of at least 150 financial institutions that offer credit cards to the general public. The information is reported to the Congress and made available to the public in order to promote competition within the industry.

Current Actions: On September 29, 2005, the Federal Reserve published a notice soliciting comments on the proposed revisions to the Report of Terms of Credit Card Plans (70 FR 56897). The comment period ended on November 28, 2005. The Federal Reserve did not receive any comments. The changes will be implemented as proposed. The Federal Reserve will clarify the FR 2572 reporting form and instructions with regard to items 56 through 58, in which the fee amounts for cash advances, late payments, and exceeding the credit limit are reported. Clarification is needed to ensure that only one of two mutually exclusive responses is reported. Responses must diverge according to whether the particular fee is uniform or variable over the card plan's geographic area of availability.

Discontinuation of the Following Report

Report title: Monthly Survey of Industrial Electricity Use.

Agency form number: FR 2009.

OMB control number: 7100-0057.

Frequency: Monthly.

Reporters: FR 2009a/c, Electric utility companies; and FR 2009b, cogenerators.

Annual reporting hours: FR 2009a/c, 1,920 hours; and FR 2009b, 900 hours.

Estimated average hours per response: FR 2009a/c, 1 hour; and FR 2009b, 30 minutes. Number of respondents: FR 2009a/c, 160; and FR 2009b, 150.

General description of report: This information collection is voluntary (12 U.S.C. 225a, 263, 353 et seq., and 461) and is given confidential treatment (5 U.S.C. 552(b)(4)).

Abstract: This voluntary survey collected information on the volume of electric power delivered during the month to classes of industrial customers. There were three versions of the survey: the FR 2009a and FR 2009c collected information from electric utilities, the FR 2009a in Standard Industrial Codes and the FR 2009c in North American Industry Classification System codes. The FR 2009b collected information from manufacturing and mining facilities that generate electric power for their own use. The electric power data were used in deriving the Federal Reserve's monthly index of industrial production as well as for calculating the monthly estimates of electric power used by industry.

Current Actions: On September 29, 2005, the Federal Reserve published a notice soliciting comments on the proposed revisions to the Monthly Survey of Industrial Electricity Use (70 FR 56897). The comment period ended on November 28, 2005. The Federal Reserve did not receive any comments. This information collection has been discontinued. The reliability of the FR 2009 data has decreased in recent years due to industry consolidation that resulted from the deregulation of the electricity markets. Since 1997 the panel size has decreased by about 30 percent and the coverage of the panel in terms of the amount of electric power used by industry has also fallen about 30 percent. Consequently, the electric power data have become unacceptably volatile and have required a significant increase in resources to continue the use of these data in the construction of industrial production.

Board of Governors of the Federal Reserve System, December 7, 2005.
Jennifer J. Johnson,
Secretary of the Board.

[FR Doc. E5-7207 Filed 12-9-05; 8:45 am]

BILLING CODE 6210-01-P